DEPARTMENT OF COMMERCE

National Telecommunications and Information Administration

Innovation Fund Advisory Committee

AGENCY: National Telecommunications and Information Administration, U.S. Department of Commerce.

ACTION: Call for applications to serve on the Innovation Fund Advisory Committee.

SUMMARY: The National Telecommunications and Information Administration (NTIA) is seeking applications from persons interested in serving on the Public Wireless Supply Chain Innovation Fund Advisory Committee (hereinafter “the IFAC” or “the Committee”) for a two-year term. The IFAC will advise the Secretary and the NTIA Administrator on the administration of the Public Wireless Supply Chain Innovation Fund.

DATES: To be considered for calendar year 2025 appointments, applications must be postmarked or electronically transmitted on or before December 16, 2024.

ADDRESSES: Persons may submit applications, with the information specified below, to Richard Upchurch, Designated Federal Officer, by email to IFAC@ntia.gov or by U.S. mail or commercial delivery service to Office of Public Safety Communications, National Telecommunications and Information Administration, 1401 Constitution Ave. NW, Room X, Washington, DC 20230.

FOR FURTHER INFORMATION CONTACT: Richard Upchurch, Designated Federal Officer, at (202) 617-6592 or rupchurch@ntia.gov. Please direct media inquiries to NTIA's Office of Public Affairs at (202) 482-7002 or press@ntia.gov.

SUPPLEMENTARY INFORMATION: The Public Wireless Supply Chain Innovation Fund Advisory Committee is chartered by the Department of Commerce under the Federal Advisory Committee Act, as amended (FACA), 5 U.S.C. 1001 et seq., and pursuant to Section 105(b) of the National Telecommunications and Information Administration Organization Act, as amended, 47 U.S.C. 904(b). The Committee is authorized under Section 9202(a)(1) of the William M. (Mac) Thornberry National Defense Authorization Act for Fiscal Year 2021, Public Law 116-283, codified as 47 U.S.C. 906(a)(1) (FY21 NDAA).

The FY21 NDAA requires the Secretary of Commerce, acting through the NTIA Administrator, and in consultation with the Under Secretary of Commerce for Standards and Technology, to establish a Federal advisory committee, composed of government and private sector experts, to advise the Secretary and the NTIA Administrator on the administration of the Innovation Fund. The Innovation Fund is a $1.5 billion competitive grants program authorized under the FY21 NDAA to support the following:

(i) Promoting and deploying technology, including software, hardware, and microprocessing technology, that will enhance competitiveness in the fifth-generation (commonly known as “5G”) and successor wireless technology supply chains that use open and interoperable interface radio access networks.

(ii) Accelerating commercial deployments of open interface standards-based compatible, interoperable equipment, such as equipment developed pursuant to the standards set forth by organizations such as the O-RAN Alliance, the Telecom Infra Project, 3GPP, the Open-RAN Software Community, or any successor organizations.

(iii) Promoting and deploying compatibility of new 5G equipment with future open standards-based, interoperable equipment.

(iv) Managing integration of multi-vendor network environments.

(v) Identifying objective criteria to define equipment as compliant with open standards for multi-vendor network equipment interoperability.

(vi) Promoting and deploying security features enhancing the integrity and availability of equipment in multi-vendor networks.

(vii) Promoting and deploying network function virtualization to facilitate multi-vendor interoperability and a more diverse vendor market.

The IFAC will function solely as an advisory body, in accordance with the provisions of the FACA. In particular, the IFAC shall advise the Secretary and the NTIA Administrator on the administration of the Innovation Fund and technology developments to help inform (i) the strategic direction of the Innovation Fund, and (ii) efforts of the Federal Government to promote a more secure, diverse, sustainable, and competitive supply chain. Additional information about the IFAC and its activities may be found on the IFAC web page at https://www.ntia.gov/committees-and-working-groups/innovation-fund-advisory-committee.

Under the Committee's charter, the IFAC shall consist of not less than ten (10) and generally not more than twenty-five (25) members. Membership balance is not static and may change, depending on the work of the Committee. Members of the IFAC who are not Federal officers or employees and are appointed for their individual perspectives or view point will be appointed to serve as Representatives. Members of the IFAC who are not Federal officers or employees and are appointed for their individual expertise and experience will serve as Special Government Employees (SGEs) as the term is defined in 18 U.S.C. 202. SGEs are subject to conflict of interest laws and regulations, including (but not limited to) the obligation to annually file a New Entrant Confidential Financial Disclosure Report (OGE Form 450) and complete ethics training. Members of the IFAC who are Federal officers or employees will be appointed pursuant to 41 CFR 102.3.130(d) to serve as Regular Government Employees (RGEs). Members will be individually advised of the capacity in which they will serve through their appointment letters.

Members who are not Federal officers or employees will serve without compensation, and NTIA will not reimburse members for travel or per diem expenses. The IFAC will meet at least two times each year, as determined by the Designated Federal Officer (DFO) in consultation with the Chair or Co-Chairs. Additional meetings may be called at the discretion of the Chair or Co-Chairs subject to the approval of the DFO. It is anticipated that the inaugural meeting of the IFAC will be held in person, with the remaining meetings conducted virtually.

No member may be a registered federal lobbyist pursuant to the Lobbying Disclosure Act of 1995 (codified at 2 U.S.C. 1601 et seq.).¹ No member may be an agent of a foreign principal required to register pursuant to the Foreign Agents Registration Act of 1938, as amended (codified at 22 U.S.C. 611 et seq.).

¹ See Office of Management and Budget, Revised Guidance on Appointment of Lobbyists to Federal Advisory Committees, Boards, and Commissions, 79 FR 47482 (Aug. 13, 2014).

Members of the IFAC shall be appointed by the NTIA Administrator. NTIA currently seeks applicants for a two-year term that will commence in approximately Spring 2025 and continue for two years, subject to the renewal of the Committee's charter or its termination by proper authority.

In accordance with the Federal Advisory Committee Act, as amended (FACA) 5 U.S.C. 1001 et seq., the Committee's membership will be fairly balanced in terms of the points of view represented by members and the functions to be performed. Accordingly, to ensure that private and public sector members represent a broad range of expertise and perspectives, candidates from a variety of professional fields will be considered, including associations, standards organizations, academic and research institutions, laboratories, companies of various sizes and expertise, nonprofit and civil society entities, and consortiums, in addition to government agencies. Members will be highly qualified to provide advice and information on technology developments, research and development, lab testing, interoperability, integration, certification and standards, network function virtualization, commercial deployments, security, and/or economic competitiveness related to open and interoperable 5G and future generation communication networks. In particular, NTIA seeks technical experts with strong open and interoperable network deployment experience, familiarity with 5G and successor wireless technologies, or expertise with specific applications of wireless technologies.

During their service on the IFAC, non-Federal government members may not be applicants for Innovation Fund grants, have a financial interest in applicants for Innovation Fund grants, or be employed by applicants for Innovation Fund grants; represented entities cannot be applicants for Innovation Fund grants or have a financial interest in applicants for Innovation Fund grants. (Widely diversified paid memberships do not constitute a financial interest).

Each application must include the applicant's full name, address, telephone number, and email address, along with a summary of the applicant's qualifications that identifies, with specificity, how his or her education, training, experience, expertise, or other factors would support the IFAC's work and how his or her participation would help achieve the balance factors described above. Each application must also include a detailed resume or curriculum vitae. To be considered for a calendar year 2025 appointment, expressions of interest must be electronically transmitted on or before December 16, 2024.

Dated: November 8, 2024.
Stephanie Weiner,
Chief Counsel, National Telecommunications and Information Administration.

[FR Doc. 2024-26635 Filed 11-14-24; 8:45 am]

BILLING CODE 3510-10-P